ENVIRONMENTAL PROTECTION AGENCY

[EPA-HQ-OW-2006-0394; FRL-9903-09-OW]

Proposed Information Collection Request; Comment Request; Approval of State Coastal Nonpoint Pollution Control Programs

AGENCY: Environmental Protection Agency (EPA).

ACTION: Notice.

SUMMARY: The Environmental Protection Agency is planning to submit an information collection request (ICR), “Approval of State Coastal Nonpoint Pollution Control Programs (CZARA Section 6217)” (EPA ICR No. 1569.08, OMB Control No. 2040-0153) to the Office of Management and Budget (OMB) for review and approval in accordance with the Paperwork Reduction Act. Before doing so, EPA is soliciting public comments on specific aspects of the proposed information collection as described below. This is a proposed extension of the ICR, which is currently approved through January 31, 2014. An Agency may not conduct or sponsor and a person is not required to respond to a collection of information unless it displays a currently valid OMB control number.

DATES: Comments must be submitted on or before January 21, 2014.

ADDRESSES: Submit your comments, referencing Docket ID No. EPA-HQ-OW-2006-0394, online using www.regulations.gov (our preferred method), by email to OW-Docket@epa.gov, or by mail to: EPA Docket Center, Environmental Protection Agency, Mail Code 28221T, 1200 Pennsylvania Ave. NW., Washington, DC 20460.

EPA's policy is that all comments received will be included in the public docket without change including any personal information provided, unless the comment includes profanity, threats, information claimed to be Confidential Business Information (CBI) or other information whose disclosure is restricted by statute.

FOR FURTHER INFORMATION CONTACT: Don Waye, Assessment and Watershed Protection Division, Office of Wetlands Oceans and Watersheds, Mail Code 4503-T, Environmental Protection Agency, 1200 Pennsylvania Ave. NW., Washington, DC 20460; telephone number: (202) 566-1170; fax number: (202) 566-1333; email address: waye.don@epa.gov.

SUPPLEMENTARY INFORMATION: Supporting documents which explain in detail the information that the EPA will be collecting are available in the public docket for this ICR. The docket can be viewed online at www.regulations.gov or in person at the EPA Docket Center, EPA West, Room 3334, 1301 Constitution Ave. NW., Washington, DC. The telephone number for the Docket Center is 202-566-1744. For additional information about EPA's public docket, visit http://www.epa.gov/dockets.

Pursuant to section 3506(c)(2)(A) of the PRA, EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. EPA will consider the comments received and amend the ICR as appropriate. The final ICR package will then be submitted to OMB for review and approval. At that time, EPA will issue another Federal Register notice to announce the submission of the ICR to OMB and the opportunity to submit additional comments to OMB.

Abstract: Under the provisions of national Program Development and Approval Guidance implementing section 6217 of the Coastal Zone Act Reauthorization Amendments of 1990 (CZARA) which was jointly developed and published by EPA and the National Oceanic and Atmospheric Administration (NOAA), 29 coastal States and 5 coastal Territories with federally approved Coastal Zone Management Programs have developed and submitted to EPA and NOAA Coastal Nonpoint Pollution Programs. Another State (Illinois) is developing its program for submittal to EPA and NOAA in early 2014. EPA and NOAA have fully approved 17 States and 5 Territories, and conditionally approved 11 States. Another State that was conditionally approved (Alaska) ceased its participation in this program in 2011.

Form Numbers: None.

Respondents/affected entities: Entities affected by this action are 11 coastal States with conditionally approved Coastal Nonpoint Pollution Control Programs and 1 coastal State that will submit its program for federal approval in 2014.

Respondent's obligation to respond: Required to obtain or retain benefits.

Estimated number of respondents: 12 States (total).

Frequency of response: On occasion.

Total estimated burden: 1,500 hours (per year). Burden is defined at 5 CFR 1320.3(b).

Total estimated cost: $55,500 (per year), includes $0 annualized capital or operation & maintenance costs.

Changes in Estimates: There is a decrease of 125 hours (per year) in the total estimated respondent burden compared with the ICR currently approved by OMB. This decrease is the result of progress that States which are not yet unconditionally approved have made that have resulted in the reduction in the number of conditions imposed on them by EPA and NOAA, offset by the addition of a new State coastal nonpoint program (Illinois), as well as the sunsetting of one State program in 2011 (Alaska).

Dated: November 6, 2013.
Benita Best-Wong,
Director, Office of Wetlands, Oceans, and Watersheds.

[FR Doc. 2013-27830 Filed 11-19-13; 8:45 am]

BILLING CODE 6560-50-P